DEPARTMENT OF ENERGY

Federal Energy Regulatory Commission

[Docket Nos. RP96-312-043 and GT01-5-000]

Tennessee Gas Pipeline Company; Notice of Negotiated Rate

November 22, 2000.

Take notice that on November 15, 2000, Tennessee Gas Pipeline Company (Tennessee), tendered for filing Original Sheet No. 30G for inclusion in Tennessee's FERC Gas Tariff, Fifth Revised Volume No. 1. The filed tariff sheet reflects negotiated rate agreements between Tennessee and its Eastern Express Project 2000 shippers. Tennessee requests that the Commission approve the filed tariff sheet to be effective December 15, 2000.

Tennessee notes that in its October 29, 1999 “Order Issuing Certificate” in Tennessee Docket No. CP99-262-000, the Commission approved the negotiated rates for the Eastern Express Project 2000 shippers. Tennessee Gas Pipeline Company, 89 FERC ¶ 61,362 (1999). In accordance with the Commission's October 29, 1999 Order and consistent with the Commission's decisions in Noram Gas Transmission Company, FERC ¶ 61,091 (1996) and Tennessee Gas Pipeline Company 76 FERC ¶ 61,224 (1996), Tennessee is filing Original Sheet No. 30G.

Tennessee also requests that the Commission make a determination whether the Gas Transportation Agreement between Tennessee and Milford Power Company (“Milford Agreement”) constitutes a non-conforming service agreement. In that regard, the Milford Agreement contains two provisions (Article VII and Section 12.3) on which Tennessee seeks a determination because they vary from the corresponding provisions in Tennessee's pro forma FT-A Gas Transportation Agreement. First, Article VII provides that any payments (i.e., refunds) due to Milford Power Company from Tennessee will be paid directly to the lender that is financing the Milford Power Plant. Section 12.3 provides that Tennessee will provide written notice to the lender and Milford Power Company in the event of any default that could lead to termination of the Milford Agreement. In the event the Commission determines that the Milford Agreement “deviates in any material aspect” from Tennessee's pro forma FT-A Gas Transportation Agreement, Tennessee will, in a compliance filing, revise its FERC Gas Tariff to identify the Milford Agreement as a non-conforming service agreement.

Tennessee states that copies of the filing have been mailed to all affected customers and state regulatory commissions.

Any person desiring to be heard or to protest said filing should file a motion to intervene or a protest with the Federal Energy Regulatory Commission, 888 First Street, NE., Washington, DC 20426, in accordance with Section 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

David P. Boergers,
Secretary.

[FR Doc. 00-30344 Filed 11-28-00; 8:45 am]

BILLING CODE 6717-01-M